DEPARTMENT OF THE INTERIOR

Fish and Wildlife Service

[FWS-R1-ES-2012-N026; FXES11130100000F5-123-FF01E00000]

Endangered and Threatened Wildlife and Plants; Recovery Permit Applications

AGENCY: Fish and Wildlife Service, Interior.

ACTION: Notice of availability; request for comments.

SUMMARY: We, the U.S. Fish and Wildlife Service, invite the public to comment on the following applications for permits to conduct activities with the purpose of enhancing the survival of endangered species. The Endangered Species Act of 1973, as amended (Act), prohibits certain activities with respect to endangered species unless a Federal permit allows such activity. The Act also requires that we invite public comment before issuing such permits.

DATES: To ensure consideration, please send your written comments by April 18, 2012.

ADDRESSES: Endangered Species Program Manager, Ecological Services, U.S. Fish and Wildlife Service, Pacific Regional Office, 911 NE 11th Avenue, Portland, OR 97232-4181. Please refer to the permit number for the application when submitting comments.

FOR FURTHER INFORMATION CONTACT: Colleen Henson, Fish and Wildlife Biologist, at the above address or by telephone (503-231-2071) or fax (503-231-6243).

SUPPLEMENTARY INFORMATION:

Background

The Act (16 U.S.C. 1531 et seq.) prohibits certain activities with respect to endangered and threatened species unless a Federal permit allows such activity. Along with our implementing regulations in the Code of Federal Regulations (CFR) at 50 CFR part 17, the Act provides for certain permits, and requires that we invite public comment before issuing these permits for endangered species.

A permit granted by us under section 10(a)(1)(A) of the Act authorizes the permittee to conduct activities (including take or interstate commerce) with respect to U.S. endangered or threatened species for scientific purposes or enhancement of propagation or survival. Our regulations implementing section 10(a)(1)(A) of the Act for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number for the application when submitting comments.

Documents and other information submitted with these applications are available for review by request from the Endangered Species Program Manager at the address listed in the ADDRESSES section of this notice, subject to the requirements of the Privacy Act (5 U.S.C. 552a) and Freedom of Information Act (5 U.S.C. 552).

Permit Number: TE-64043A

Applicant: David Bainbridge, DVM, Verona, Illinois

The applicant requests an interstate commerce permit to purchase nene geese (Branta sandvicensis) in conjunction with captive propagation for the purpose of enhancing their survival. This notification covers activities conducted by the applicant over the next 5 years.

Permit Number: TE-66384A

Applicant: Idaho Department of Fish and Game, Coeur d'Alene, Idaho

The applicant requests a permit to take (collect eggs, net and tag juveniles and adults) the Kootenai River white sturgeon (Acipenser transmontanus) in conjunction with spawning, recruitment, monitoring, and population studies in Boundary County, Idaho, for the purpose of enhancing the species' survival.

Permit Number: TE-012136

Applicant: Oregon Department of Environmental Quality, Hillsboro, Oregon

The permittee requests a permit amendment to take (harass by electrofishing, capture, and release) the Modoc sucker (Catostomus microps) in conjunction with monitoring studies in Lake County, Oregon, for the purpose of enhancing the species' survival. The permit currently covers take of Oregon chub (Oregonichthys crameri), Lost River sucker (Deltistes luxatus), and shortnose sucker (Chasmistes brevirostris), for which notices were published in the Federal Register on July 2, 1999 (64 FR 36032) and June 20, 2000 (65 FR 38297).

Permit Number: TE-66612A

Applicant: Wildwood Wildlife Park, Minocqua, Wisconsin

The applicant requests an interstate commerce permit to purchase nene geese (Branta sandvicensis) in conjunction with captive propagation for the purpose of enhancing their survival. This notification covers activities conducted by the applicant over the next 5 years.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.).

Dated: March 9, 2012.
Richard Hannan,
Acting Regional Director, Pacific Region, U.S. Fish and Wildlife Service.

[FR Doc. 2012-6533 Filed 3-16-12; 8:45 am]

BILLING CODE 4310-55-P